DEPARTMENT OF ENERGY

10 CFR Part 1045

[EHSS-RM-22-WSHP]

RIN 1992-AA62

Organizational Changes in Certain Department of Energy Health, Safety, and Security Regulations; Correction

AGENCY: Office of Environment, Health, Safety and Security, U.S. Department of Energy.

ACTION: Final rule; correction.

SUMMARY: On June 26, 2023, the U.S. Department of Energy (DOE) issued a final rule that inadvertently contained inaccurate amendatory instructions so that the revisions in certain sections of the Code of Federal Regulations (CFR) could not be made. This document corrects the CFR.

DATES: Effective November 24, 2023.

FOR FURTHER INFORMATION CONTACT:

Mr. James Dillard, U.S. Department of Energy, Office of Environment, Health, Safety and Security, Mailstop EHSS-11, 1000 Independence Ave. SW, Washington, DC 20585, Telephone: (301) 903-1165, or by Email at: james.dillard@hq.doe.gov.

Ms. Jennifer Tiedeman, U.S. Department of Energy, Office of General Counsel, GC-33, 1000 Independence Ave. SW, Washington, DC 20585, Telephone: (202) 287-6111, or by Email at: jennifer.tiedeman@hq.doe.gov.

SUPPLEMENTARY INFORMATION:

I. Introduction

On February 10, 2022, DOE updated its organizational structure and changed certain titles and reporting duties within DOE's Office of Environment, Health, Safety and Security (EHSS). Certain of the EHSS's functions are subject to regulations in title 10 of the CFR. As a result of the changes, title 10 of the CFR contained references to DOE organizational names and positions that are no longer current. On June 26, 2023, DOE issued a final rule that made amendments to 10 CFR parts 602, 710, 712, 725, 835, 850, 851, 1016, 1017, 1045, and 1046 to reflect the new titles and organizational names. 88 FR 41289.

II. Need for Correction

One of the changes DOE made in its June 26, 2023, amendments was to change the title of the “Associate Under Secretary for Environment, Health, Safety and Security” (also referred to as the “Associate Under Secretary of Environment, Health, Safety and Security” in 10 CFR part 1045) to the “Director, Office of Environment, Health, Safety and Security” in 10 CFR parts 602, 710, 712, 835, 850, 851, 1016, 1045, and 1046. However, the rulemaking inadvertently contained inaccurate amendatory instructions at 10 CFR 1045.80, 1045.180, 1045.210, 1045.215, and 1045.220 such that all the revisions in 10 CFR part 1045 could not be made.

The purpose of this final rule technical correction is to correct references to the “Associate Under Secretary of Environment, Health, Safety and Security” and the “Associate Under Secretary for Environment, Health, Safety and Security” and instead reference the “Director, Office of Environment, Health, Safety and Security” in 10 CFR part 1045.

III. Procedural Issues and Regulatory Review

DOE has concluded that the determinations made pursuant to the various procedural requirements applicable to the June 26, 2023, final rule remain unchanged for this final rule technical correction. These determinations are set forth in the June 26, 2023, final rule. 88 FR 41289.

Pursuant to the Administrative Procedure Act, 5 U.S.C. 553(b), DOE finds that there is good cause to not issue a separate notice to solicit public comment on the changes contained in this document. Neither the errors nor the corrections in this document affect the substance of the June 26, 2023, final rule or any of the conclusions reached in support of the final rule. For these reasons, this rule is not subject to the 30-day delay in effective date requirement of 5 U.S.C. 553(d) otherwise applicable to rules that make substantive changes.

IV. Approval by the Office of the Secretary of Energy

The Secretary of Energy has approved publication of this final rule.

List of Subjects in 10 CFR Part 1045

Classified information, Declassification, Formerly restricted data, Restricted data, Transclassified foreign nuclear information.

Signing Authority

This document of the Department of Energy was signed on November 14, 2023, by David Turk, Deputy Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 20, 2023.
Treena V. Garrett,
Federal Register Liaison Officer, U.S. Department of Energy.

For the reasons set forth in the preamble, the Department of Energy corrects part 1045 of chapter X of title 10 of the Code of Federal Regulations by making the following correcting amendments:

PART 1045—NUCLEAR CLASSIFICATION AND DECLASSIFICATION

1. The authority citation for part 1045 continues to read as follows:

Authority: 42 U.S.C. 2011; E.O. 13526, 75 FR 705, 3 CFR 2010 Comp., pp. 298-327.

§ 1045.80 [Amended]

2. Amend § 1045.80 in paragraph (a) by removing the words “Associate Under Secretary of Environment, Health, Safety and Security” and adding in their place the words “Director, Office of Environment, Health, Safety and Security”.

§ 1045.180 [Amended]

3. Amend § 1045.180 in paragraphs (b)(2), (d), and (e)(1) and (2) by removing the words “Associate Under Secretary for Environment, Health, Safety and Security” and adding in their place the words “Director, Office of Environment, Health, Safety and Security”.

§ 1045.210 [Amended]

4. Amend § 1045.210 in paragraph (a) by removing the words “Associate Under Secretary for Environment, Health, Safety and Security” and adding in their place the words “Director, Office of Environment, Health, Safety and Security”.

§ 1045.215 [Amended]

5. Amend § 1045.215 by:

a. Removing the words “Associate Under Secretary for Environment, Health, Safety and Security” and adding in their place the words “Director, Office of Environment, Health, Safety and Security” in paragraph (a); and

b. Removing the words “Associate Under Secretary for Environment, Health, Safety and Security's” and adding in their place the words “Director, Office of Environment, Health, Safety and Security's” in paragraph (b).

§ 1045.220 [Amended]

6. Amend § 1045.220 in paragraphs (a) and (b) by removing the words “Associate Under Secretary for Environment, Health, Safety and Security” and adding in their place the words “Director, Office of Environment, Health, Safety and Security”.

[FR Doc. 2023-25923 Filed 11-22-23; 8:45 am]

BILLING CODE 6450-01-P